DEPARTMENT OF ENERGY

Federal Energy Regulatory Commission

[Project No. 619-164]

Public Meetings Soliciting Comments on the Draft Environmental Impact Statement for the Bucks Creek Hydropower Project; Pacific Gas and Electric Company and City of Santa Clara, California

On June 14, 2019, the Commission issued a Notice of Availability of the Draft Environmental Impact Statement (EIS) for the Bucks Creek Hydropower Project. The draft EIS documents the views of governmental agencies, non-governmental organizations, affected Indian tribes, the public, the license applicants, and Commission staff.¹ All written comments must be filed by August 13, 2019, and should reference Project No. 619-164. More information on filing comments can be found in the letter at the front of the draft EIS or on the Commission's website at http://www.ferc.gov/docs-filing/efiling.asp. Although the Commission strongly encourages electronic filing, documents may also be paper-filed.

¹ 18 CFR part 380.

In addition to or in lieu of sending written comments, you are invited to attend public meetings that will be held to receive comments on the draft EIS. The daytime meeting will focus on resource agency, Indian tribes, and non-governmental organization comments, while the evening meeting is primarily for receiving input from the public. All interested individuals and entities are invited to attend one or both of the public meetings. The time and location of the meetings are as follows:

Thursday, August 1, 2019

Daytime meeting: 10 a.m.-noon Pacific Daylight Time, Feather River Tribal Health, Holiday Inn Express, 2145 5th Ave., Oroville, CA 95965, 530-534-5394.

Evening meeting: 7-9 p.m. Pacific Daylight Time, Holiday Inn Express, 550 Oro Dam Blvd., Oroville, CA 95965, 530-534-5566.

The City of Santa Clara, in their role as California Environmental Quality Act (CEQA) Lead Agency for the project, will be in attendance at the meetings and will use feedback on the DEIS, along with other information, for development of the supplemental CEQA document.

At this meeting, resource agency personnel and other interested persons will have the opportunity to provide oral and written comments and recommendations regarding the draft EIS. The meeting will be recorded by a court reporter, and all statements (verbal and written) will become part of the Commission's public record for the project. This meeting is posted on the Commission's calendar located at http://www.ferc.gov/EventCalendar/EventsList.aspx along with other related information.

For further information, contact Alan Mitchnick at (202) 502-6074 or at alan.mitchnick@ferc.gov.

Dated: June 28, 2019.
Nathaniel J. Davis, Sr.,
Deputy Secretary.

[FR Doc. 2019-14316 Filed 7-3-19; 8:45 am]

BILLING CODE 6717-01-P